DEPARTMENT OF JUSTICE

Notice of Lodging of Consent Decree Pursuant to the Comprehensive Environmental Response Compensation and Liability Act (“CERCLA”)

Notice is hereby given that a proposed consent decree in United States v. Allied Waste Products, Inc. et al., Civ. No. 00cv3520, was lodged with the United States District Court for the District of New Jersey on July 20, 2000, (“De Minimis Consent Decree”). The De Minimis Consent Decree was amended by a Consent Order on May 9, 20002, (“Consent Order”), which corrected certain errors in the De Minimis Consent Decree. The De Minimis Consent Decree and Consent Order will resolve the liability of 49 parties against whom the United States asserted a claim on behalf of the United States Environmental Protection Agency under Sections 106 and 107(a) of the Comprehensive Environmental Response, Compensation, and Liability Act, as amended (“CERCLA”), 42 U.S.C. 9606 and 9607(a), for injunctive relief and recovery of costs incurred-by the United States in connection with the NL Industries Superfund Site in Pedricktown, New Jersey. The De Minimis Consent Decree requires 49 generators of hazardous substances to pay $740,000, which will be deposited into a special account to pay for response activities at the Site.

The Department of Justice will receive, for a period of thirty (30) days from the date of this publication, comments relating to the proposed De Minimis Consent Decree and Consent Order. Comments should be addressed to the Assistant Attorney General, Environment and Natural Resources Division, P.O. Box 7611, U.S. Department of Justice, Washington, DC 20044-7611, and should refer to United States v. Allied Waste Products, Inc., et al., DOJ Ref. # 90-11-2-1075/1.

The proposed De Minimis Consent Decree and Consent Order may be examined at the office of the United States Attorney for the District of New Jersey, 502 Federal Building, 970 Broad Street (contact Assistant United States Attorney Susan Cassell); and the Region II Office of the Environmental Protection Agency, 290 Broadway, New York, New York 10007-1866 (contact Assistant Regional Counsel, Damaris Cristiano). A copy of the proposed De Minimis Consent Decree and Consent Order may be obtained by mail from the Consent Decree Library, P.O. Box 7611, Washington, DC 20044-7611 or by faxing a request to Tonia Fleetwood, fax no. (202) 514-0097, phone confirmation number (202) 514-1547. In requesting a copy please refer to the referenced case and enclose a check in the amount of $23.50 (25 cents per page reproduction costs) for the De Minimis Consent Decree and Consent Order, payable to the U.S. Treasury.

Ronald Gluck,
Assistant Section Chief, Environmental Enforcement Section, Environment and Natural Resources Division.

[FR Doc. 02-14849 Filed 6-12-02; 8:45 am]

BILLING CODE 4410-15-M